GENERAL SERVICES ADMINISTRATION

Notice of the Availability of the Record of Decision for a Proposed Department of Transportation Headquarters

AGENCY: General Services Administration, National Capital Region; Department of Transportation.

ACTION: Lease acquisition of a new or renovated headquarters building for the Department of Transportation in the Central Employment Area of Washington, DC.

SUMMARY: The General Services Administration (GSA) announces the availability of the Record of Decision (ROD) for the proposed lease acquisition of a new or renovated headquarters building for the Department of Transportation (DOT) in the Central Employment Area (CEA) of Washington, DC.

Background Information

On July 25, 2001, GSA published in the Federal Register a Notice of the Availability of the Final Environmental Impact Statement for a Proposed Department of Transportation Headquarters (66 FR 38705).

DOT seeks to update its facilities, maximize efficiency, and reorganize and consolidate its operations. To this end, GSA conducted a competitive procurement of 1.35 million square feet of new or renovated space, under an operating lease for a term of fifteen years. Consolidation in a new or renovated headquarters will produce significant operating efficiencies in support of DOT's mission.

The Government conducted this procurement as a negotiated, best value source selection. The procurement process was developed with full integration of the NEPA process, incorporating NEPA compliance into the agency's decision-making framework. This resulted in full public participation and submission of final proposals that addressed potential environmental impacts. The Government's evaluation of proposals considered an Offeror's ability and willingness to address impacts and implement proposed mitigation measures identified through the NEPA process, including public comments received on the Final EIS.

Project Information

The Final Environmental Impact Statement announced that Alternative 4, proposing construction of a new DOT headquarters facility at the Southeast Federal Center, was the preferred action alternative for satisfying DOT's space needs. This proposal was judged by the selection panel for the competitive procurement, as being the highest technically rated and lowest priced, consistent with the criteria provided in the Solicitation for Offers (SFO). The ROD announces GSA's decision to proceed with implementation of the preferred action alternative.

Availability of Record of Decision (ROD)

The ROD and other information regarding this project are available on the Internet at http://www.velecom.com/DOT. To request a copy of the ROD, please contact Mr. John Simeon, General Services Administration, and (202) 260-5786.

FOR FURTHER INFORMATION CONTACT: Mr. John Simeon, General Services Administration, and (202) 260-5786.

Dated: February 1, 2002.
Anthony Costa,
Assistant Regional Administrator, National Capital Region, General Services Administration.

[FR Doc. 02-3050 Filed 2-7-02; 8:45 am]

BILLING CODE 6820-BR-P